DEPARTMENT OF HEALTH AND HUMAN SERVICES

Centers for Disease Control and Prevention

[60Day-15-15DH]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Division of Community Health (DCH) Awardee Training Needs Assessment—New—National Center for Chronic Disease Prevention and Health Promotion (NCCDPHP), Centers for Disease Control and Prevention (CDC).

Background and Brief Description

The Centers for Disease Control and Prevention (CDC) established the Division of Community Health (DCH) to support multi-sector, community-based programs that promote healthy living. To support these efforts, DCH announced two new cooperative agreement programs in 2014, as authorized by the Public Health Service Act. Both programs will apply public health strategies to reduce tobacco use and exposure, improve nutrition, increase physical activity, and improve access to opportunities for chronic disease prevention, risk reduction, and management.

The Partnerships to Improve Community Health (PICH) program (Funding Opportunity Announcement (FOA) DP14-1417) will promote the use of evidence- and practice-based strategies to create or strengthen healthy environments that make it easier for people to make healthy choices and take charge of their health. The 39 PICH awardees include both state and local governmental agencies and nongovernmental organizations. Awardees will work through multi-sector community coalitions of businesses, schools, nonprofit organizations, and other community organizations. Projects will serve three types of geographic areas: Large cities and urban counties, small cities and counties, and American Indian tribes.

The new Racial and Ethnic Approaches to Community Health (REACH) cooperative agreement (FOA DP14-1419PPHF14) builds on previous REACH program activities that began in 1999 with a focus on racial and ethnic communities experiencing health disparities. The 49 new REACH awardees include local governmental agencies, community-based nongovernmental organizations, tribes and tribal organizations, Urban Indian Health Programs, and tribal and intertribal consortia. Of these awardees, 17 are receiving funds for basic implementation activities, and 32 are receiving funds to immediately expand their scope of work to improve health and reduce health disparities. REACH is financed in part by the Prevention and Public Health Fund of the Affordable Care Act.

CDC requests OMB approval to collect the information needed to assess and prioritize the training needs of PICH and REACH awardees and key collaborators. A DCH Training Needs Assessment survey will be conducted at two points in time: Once near the beginning of the project period (first quarter of 2015) and again in the second year of the project period (last quarter of 2016). The first administration of the survey will provide an initial assessment of awardee needs at program start-up. The second administration of the needs assessment will identify any new or modified training needs that arise as awardees progress in their cooperative agreement activities. Questions within the needs assessment focus on awardee preferences for training modalities as well as facilitators and barriers to training access.

Respondents will be staff members and coalition members associated with the 88 DCH awardees (49 REACH and 39 PICH). Information will be requested from four individuals affiliated with each award: The principal investigator or program manager, the lead evaluation staff member, the lead media/communications staff member, and a coalition member. The maximum number of respondents is 352 (88 awardees × 4 respondents/awardee). Because the REACH and PICH awards aim to promote collaborative, multi-sector efforts, approximately 192 respondents will be associated with private sector entities, and 160 respondents will be associated with state, local, or tribal government entities.

The same survey instrument will be administered to all respondents, however the estimated burden per response varies according to the respondent's project role and responsibilities. Information will be collected using a Web-based platform. Data collection and management will be conducted by a contractor on behalf of CDC.

Findings will enable DCH to develop appropriate training activities that best support awardees' community efforts to fulfill their funded objectives.

OMB approval is requested for two years. Participation is voluntary and there are no costs to respondents other than their time.

Estimated Annualized Burden Hours
Type of respondent | Form name | Number of respondents | Number of responses per respondent | Average burden per response (in hours) | Total burden hours
Private Sector Respondents Associated with REACH or PICH Awards:
Principal Investigator or Program Manager | Training Needs Assessment | 48 | 1 | 50/60 | 40
Evaluation Lead | Training Needs Assessment | 48 | 1 | .5 | 24
Media/Communications Lead | Training Needs Assessment | 48 | 1 | 20/60 | 16
Coalition Member | Training Needs Assessment | 48 | 1 | 1 | 48
State/Local/Tribal Govt. Sector Respondents Associated with REACH or PICH Awards:
Principal Investigator or Program Manager | Training Needs Assessment | 40 | 1 | 50/60 | 33
Evaluation Lead | Training Needs Assessment | 40 | 1 | .5 | 20
Media/Communications Lead | Training Needs Assessment | 40 | 1 | 20/60 | 13
Coalition Member | Training Needs Assessment | 40 | 1 | 1 | 40
Total |  |  |  |  | 234

Leroy A. Richardson,
Chief, Information Collection Review Office, Office of Scientific Integrity, Office of the Associate Director for Science, Office of the Director, Centers for Disease Control and Prevention.

[FR Doc. 2014-26475 Filed 11-6-14; 8:45 am]

BILLING CODE 4163-18-P